DEPARTMENT OF COMMERCE

International Trade Administration

[A-602-805, A-484-802, A-419-802, A-588-864, A-791-818]

Notice of Postponement of Preliminary Antidumping Duty Determinations: Electrolytic Manganese Dioxide from Australia, Greece, Ireland, Japan, and South Africa.

AGENCY: Import Administration, International Trade Administration, Department of Commerce.

SUMMARY: On August 20, 2003, the Department of Commerce (the Department) initiated these antidumping duty investigations of Electrolytic Manganese Dioxide from Australia, Greece, Ireland, Japan, and South Africa, (68 FR 51551, dated August 27, 2003). The notice of initiation stated that the Department would issue preliminary determinations no later than January 7, 2004, 140 days after the date of initiation. See 68 FR 51551. The Department is now postponing the preliminary determinations in these antidumping duty investigations from January 7, 2004 until no later than February 26, 2004. These postponements are made pursuant to section 733(c)(1)(A) of the Tariff Act of 1930, as amended.

EFFECTIVE DATE: December 16, 2003.

FOR FURTHER INFORMATION CONTACT: Joe Welton, Import Administration, International Trade Administration, U.S. Department of Commerce, 14th Street and Constitution Avenue, NW., Washington, DC 20230; telephone: (202) 482-0165.

Postponement of Preliminary Determinations

Pursuant to section 733(b)(1)(A) of the Act, the Department shall make a preliminary determination in an antidumping duty investigation within 140 days after the date on which the Department initiates the investigation. Section 733 (c)(1)(A) of the Act further provides, however, that the Department may extend the 140-day period to 190 days if the petitioner makes a timely request for an extension. On November 14, 2003 and November 26, 2003, Kerr-McGee Chemical, LLC (“petitioner”) made timely requests pursuant to 19 CFR 351.205(e) for 30-day and 20-day postponements, respectively, for a total of 50 days, pursuant to section 733(c)(1)(A) of the Act. Therefore, in accordance with petitioner's requests for postponements, the Department is postponing the preliminary determinations in these investigations for 50 days. These preliminary determinations will now be due no later than February 26, 2004. Unless extended, the deadline for the final determinations will continue to be 75 days after the date of the preliminary determinations.

This notice is issued and published pursuant to section 733(c)(2) of the Act and 19 CFR 351.205(f).

Dated: December 9, 2003.
James J. Jochum,
Assistant Secretary for Import Administration.

[FR Doc. 03-31016 Filed 12-15-03; 8:45 am]

BILLING CODE 3510-DS-S